FEDERAL COMMUNICATIONS COMMISSION

47 CFR Part 73

[DA 03-2112; MB Docket No. 03-47; RM-10592]

Radio Broadcasting Services; Orange, VA, Midlothian, VA, Reidsville, NC and South Hill, VA

AGENCY: Federal Communications Commission.

ACTION: Final rule.

SUMMARY: The Audio Division, at the request of Piedmont Communications, Inc., licensee of FM Station WJMA, Orange, Virginia, and Old Belt Broadcasting Corporation, licensee of FM Station WKSK, South Hill, Virginia, deletes Orange, Virginia, Channel 255A, from the FM Table of Allotments, allots Channel 255B1 at Midlothian, Virginia, as the community's first local FM service, and modifies the license of FM Station WJMA to specify operation on Channel 255B1 at Midlothian. The order further substitutes Channel 270A for Channel 255B3 at South Hill, Virginia, and substitutes Channel 271C0 for Channel 271C at Reidsville, North Carolina. Channel 255B1 can be allotted to Midlothian, Virginia, in compliance with the Commission's minimum distance separation requirements with a site restriction of 12.7 km (7.9 miles) northwest of Midlothian. The coordinates for Channel 255B1 at Midlothian, Virginia, are 37-30-21 North Latitude and 77-38-58 West Longitude. Channel 270A can be allotted to South Hill, Virginia, in compliance with the Commission's minimum distance separation requirements with a site restriction of 12.4 km (7.7 miles) northwest of South Hill. The coordinates for Channel 270A at South Hill, Virginia, are 36-43-35 North Latitude and 78-07-45 West Longitude. Channel 271C0 can be substituted for Channel 271C at Reidsville, North Carolina, at the existing licensed coordinates for FM Station WJMH.

DATES: Effective August 18, 2003.

FOR FURTHER INFORMATION CONTACT: Deborah Dupont, Media Bureau, (202) 418-2180.

SUPPLEMENTARY INFORMATION: This is a synopsis of the Commission's Report and Order, MB Docket No. 03-47, adopted July 1, 2003, and released July 3, 2003. The full text of this Commission decision is available for inspection and copying during normal business hours in the FCC Information Center, Portals II, 445 12th Street, SW, Room CY-A257, Washington, DC 20554. The complete text of this decision may also be purchased from the Commission's duplicating contractor, Qualex International, Portals II, 445 12th Street, SW, Room CY-B402, Washington, DC, 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under North Carolina, is amended by removing Channel 271C and by adding Channel 271C0 at Reidsville.

3. Section 73.202(b), the Table of FM Allotments under Virginia, is amended by removing Orange, Channel 255A; by adding Midlothian, Channel 255B1; by removing Channel 255C3 and by adding Channel 270A at South Hill.

Federal Communications Commission.
John A. Karousos,
Assistant Chief, Audio Division, Media Bureau.

[FR Doc. 03-18229 Filed 7-17-03; 8:45 am]

BILLING CODE 6712-01-P